DEPARTMENT OF TRANSPORTATION

Federal Aviation Administration

High Density Traffic Airports; Notice of Slot Usage Waiver

AGENCY: Federal Aviation Administration, DOT.

ACTION: Notice of temporary slot usage waiver at high density traffic airports.

SUMMARY: This notice announces a five-day waiver of the minimum slot usage requirement at New York's John F. Kennedy and LaGuardia Airports and Washington's Reagan National Airport for the period February 15, 2003 through February 19, 2003, due to extended airport closures and the operational recovery from a major snow storm impacting much of the northeastern United States.

DATE: February 27, 2003.

FOR FURTHER INFORMATION CONTACT: Lorelei Peter, Operations and Air Traffic Law Branch, Regulations Division, Office of the Chief Counsel, Federal Aviation Administration, 800 Independence Avenue, SW., Washington, DC 20591; telephone number 202-267-3073.

SUPPLEMENTARY INFORMATION:

Background

On February 15, 2003, a major winter storm including snow and freezing rain began to impact operations at many airports in the eastern part of the United States, including the three high density traffic airports. This storm moved up the East Coast bringing significant snowfalls and resulted in airport closures or reduced airport capacity through Monday, February 17, 2003. On Tuesday, February 18, 2003, the airport authorities reopened all three high density airports and regular operations were resumed and on Wednesday, February 19, 2003, air traffic activity approached normal levels. However, on these two days, some airlines were unable to operate scheduled flights since aircraft or crews were not in position to operate the flights as scheduled.

Statement of Policy

The regulations governing slots and slot allocation provide that any slot not utilized at least 80 percent of the time over a 2-month period shall be recalled by the Federal Aviation Administration (FAA) (14 CFR 93.277(a)). Additionally, paragraph (j) of that section provides that the Chief Counsel may waive the slot usage requirement in the event of a highly unusual and unpredictable conditions that is beyond the control of the slot holder and exits for nine days or more (14 CFR 93.227(j)). These two provisions are also applicable to slot exemptions.

The FAA has determined the conditions described above warrant a temporary waiver of the minimum slot usage requirement for the period of February 15, 2003, through February 19, 2003, even though the conditions did not exceed eight days. Therefore, the FAA will treat as used any slot that was scheduled to operate during the period of the waiver regardless of whether the flight actually was operated. In the bi-monthly slot usage reports required by 14 CFR 93.227(i), slot holders/operators should indicate whether a flight was scheduled to operate in an allocated slot and whether the flight actually operated. Canceled flights should not be listed as operated unless they did in fact operate. Carrier may indicate that a flight was scheduled to operate in a particular slot, but was subsequently canceled during this period, by using the “Z” code that is normally applied to flights canceled due to airport deicing programs.

Alternatively, carriers may list impacted slots/flights in a separate report. The FAA will then apply the usage waiver as appropriate to slots meeting the conditions.

Issued on February 20, 2003, in Washington, DC.
James W. Whitlow,
Deputy Chief Counsel.

[FR Doc. 03-4644 Filed 2-26-03; 8:45 am]

BILLING CODE 4910-13-M